DEPARTMENT OF COMMERCE

National Oceanic and Atmospheric Administration

50 CFR Part 622

[Docket No. 240508-0131]

RIN 0648-BM82

Fisheries of the Caribbean, Gulf of Mexico, and South Atlantic; Reef Fish Fishery of the Gulf of Mexico; Greater Amberjack and Red Snapper Management Measures

AGENCY: National Marine Fisheries Service (NMFS), National Oceanic and Atmospheric Administration (NOAA), Commerce.

ACTION: Proposed rule; request for comments.

SUMMARY: NMFS proposes to implement management measures described in a framework action under the Fishery Management Plan for the Reef Fish Resources of the Gulf of Mexico (FMP), as prepared by the Gulf of Mexico Fishery Management Council (Council). If implemented, this proposed rule would modify the Gulf of Mexico (Gulf) greater amberjack commercial trip limit and the recreational fixed closed season. Additionally, this proposed rule would clarify the Gulf red snapper charter vessel/headboat (for-hire) component quota and annual catch target (ACT) regulations. The purposes of this proposed rule are to extend the commercial and recreational fishing seasons for Gulf greater amberjack while continuing to prevent overfishing and rebuild the stock; and clarify that a person on a vessel issued a Gulf for-hire permit at any time during the fishing year can only harvest red snapper if the vessel is operating as a for-hire vessel.

DATES: Written comments must be received on or before June 14, 2024.

ADDRESSES: A plain language summary of this proposed rule is available at https://www.regulations.gov/docket[NOAA-NMFS-2024-0012]. You may submit comments on this document, identified by [NOAA-NMFS-2024-0012], by either of the following methods:

• Electronic Submission: Submit all electronic public comments via the Federal e-Rulemaking Portal. Visit https://www.regulations.gov and type [NOAA-NMFS-2024-0012], in the Search box. Click the “Comment” icon, complete the required fields, and enter or attach your comments.

• Mail: Submit written comments to Dan Luers, Southeast Regional Office, NMFS, 263 13th Avenue South, St. Petersburg, FL 33701.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter“N/A” in the required fields if you wish to remain anonymous).

Electronic copies of the framework action, which includes an environmental assessment, a fishery impact statement, an Initial Regulatory Flexibility analysis (IRFA), and a regulatory impact review, may be obtained from the Southeast Regional Office website at https://www.fisheries.noaa.gov/action/framework-action-modify-greater-amberjack-recreational-fixed-closed-season-and-commercial.

FOR FURTHER INFORMATION CONTACT: Dan Luers, telephone: 727-824-5305, or email: daniel.luers@noaa.gov.

SUPPLEMENTARY INFORMATION: The Gulf reef fish fishery, which includes greater amberjack, is managed under the FMP. The FMP was prepared by the Council, approved by the Secretary of Commerce, and is implemented by NMFS through regulations at 50 CFR part 622 under the authority of the Magnuson-Stevens Fishery Conservation and Management Act (Magnuson-Stevens Act).

Background

The Magnuson-Stevens Act requires NMFS and the regional fishery management councils to prevent overfishing and achieve, on a continuing basis, the optimum yield from federally managed fish stocks. These mandates are intended to ensure fishery resources are managed for the greatest overall benefit to the nation, particularly with respect to providing food production and recreational opportunities, and to protect marine ecosystems.

The greater amberjack stock in the Gulf has been overfished since 2001. To help rebuild the stock, NMFS has implemented several modifications to the rebuilding plan, including changes to the commercial and recreational catch levels, and changes to management measures intended to constrain harvest and extend the commercial and recreational seasons. NMFS recently implemented Amendment 54 to the FMP, which modifies the Gulf greater amberjack rebuilding time period and substantially reduces the sector-specific annual catch limits (ACLs) and ACTs (88 FR 39193, June 15, 2023). Implementation of that final rule and Amendment 54 is expected to result in the stock rebuilding by 2027.

In the Gulf, greater amberjack is not a common target species for the reef fish commercial sector, with the majority of trips landing less than 500 lb (227 kg), gutted weight (520 lb (236 kg), round weight) of the species. As described at 50 CFR 622.41(a)(1), when commercial landings for greater amberjack reach or are projected to reach the commercial ACT, which is codified as the commercial quota, NMFS closes the commercial sector for the remainder of the fishing year. Any overage of the commercial ACL results in both a reduction of the commercial ACT and the commercial ACL in the following fishing year by the amount of the commercial ACL overage.

In 2012, the final rule for Amendment 35 to the FMP established a Gulf greater amberjack commercial trip limit of 2,000 lb (907 kg), round weight (77 FR 67574, November 13, 2012). In 2015, NMFS implemented a framework action under the FMP to reduce the Gulf greater amberjack commercial trip limit to 1,500 lb (680 kg), gutted weight (1,560 lb (708 kg), round weight) (80 FR 75432, December 2, 2015). In 2020, NMFS implemented a framework action that further reduced the Gulf greater amberjack commercial trip limit to 1,000 lb (454 kg), gutted weight (1,040 lb (472 kg), round weight) (85 FR 20611, April 14, 2020). That framework action and final rule also included a reduction in the trip limit to 250 lb (113 kg), gutted weight (260 lb (118 kg), round weight) when 75 percent of the commercial quota was reached. The current framework action projected that under the current trip limit, the trip limit reduction was projected to occur in February with a season closure occurring in June.

In the current framework action, the Council is recommending that NMFS reduce the commercial trip limit further due to the substantial catch limit reductions implemented by Amendment 54 to lengthen the commercial fishing season. The framework action would reduce the commercial trip limit for Gulf greater amberjack to seven fish, which is approximately equal to 210 lb (95 kg), gutted weight (218 lb (99 kg), round weight). This reduction in the trip limit is expected to extend the commercial season until September unless an overage of the commercial ACL occurs in the prior fishing year, which would require a reduction in the commercial ACL and ACT and result in a reduction in the season length. NMFS notes that in the 2023 fishing year, the commercial ACL was exceeded by 35,280 lb (16,003 kg), round weight resulting in a reduction of the commercial ACL and ACT for the 2024 fishing year (see 88 FR 80995, November 21, 2023). NMFS is monitoring 2024 commercial landings and will prohibit commercial harvest and possession of Gulf greater amberjack when NMFS projects that the reduced ACT will be met.

As described in the framework action, this reduction of the trip limit to seven fish would eliminate the remaining direct commercial harvest trips for greater amberjack. The Council recognized that the greater amberjack stock is overfished and has not rebuilt as expected. Thus, the Council determined that a more cautious approach was warranted and chose to recommend reducing the commercial trip limit.

At its October 2023 meeting, the Council discussed the impact of the required reduction to the 2024 commercial catch limits as a result of landings exceeding the ACL in 2023. The Council expressed concern about constraining landings to the reduced catch limits under the current trip limit when the commercial season opens in January 2024, which could potentially result in another commercial overage in 2024 and further reduce the harvest for 2025. Since the reduced commercial trip limit in this proposed rule, if implemented, would not be effective until later in 2024, the Council requested that NMFS implement an emergency action to reduce the commercial trip limit to seven fish. NMFS and the Council expected this lower trip limit to benefit the greater amberjack stock by increasing the duration of the commercial open season, which is expected to result in fewer regulatory discards (i.e., discards required after the quota has been reached). On December 18, 2023, a final temporary rule for emergency action for Gulf greater amberjack was published in the Federal Register and is effective through June 15, 2024 (88 FR 87365).

For this action, the Council considered three other commercial trip limit alternatives which ranged from a five fish to an eight fish trip limit (approximately a range of 150 lb (68 kg), gutted weight to 257 lb (117 kg), gutted weight. They also considered a 250 lb (113 kg), gutted weight (260 lb (118 kg), round weight) trip limit. For the Council's preferred trip limit alternative action, the Council decided to specify the trip limit in numbers of fish instead of pounds of fish based in part on recommendations from its Reef Fish Advisory Panel (AP) and the Law Enforcement Technical Committee on their preferred way to specify the commercial trip limit. A trip limit in numbers of fish is more enforceable and reduces the chance of commercial fishermen exceeding the trip limit.

The Council decided that the reduced trip limit, which would extend the commercial fishing season as long as practicable, was a more desirable solution. This proposed trip limit alternative is expected to allow for as many fishing days as practicable while reducing the chance of exceeding the reduced lower catch limits implemented under the final rule for Amendment 54, and addresses needs of the rebuilding plan.

In the framework action, the Council also decided to recommend modifying the Gulf greater amberjack recreational fixed closed season in order to extend the recreational fishing season and to protect greater amberjack spawning. As described in the framework action, under the current recreational season structure, which opens on August 1, projections indicate that the season would only last approximately 3 weeks. Gulf greater amberjack is a common target species for the reef fish recreational sector. Like the commercial sector, when recreational landings for greater amberjack reach or are projected to reach the recreational ACT, NMFS closes the recreational sector for the remainder of the fishing year and any overage of the recreational ACL is reduced from the following fishing year's recreational ACT and ACL (50 CFR 622.41(a)(2)). NMFS notes that when the Gulf greater amberjack recreational sector is closed, the species remains a popular catch and release fish.

In 2012, the final rule implementing Amendment 35 established a Gulf greater amberjack recreational fixed closed season of June 1 to July 31 to restrict harvest during times of peak recreational fishing. In 2017, NMFS implemented a framework action under the FMP to set the Gulf greater amberjack recreational fixed closed season to January 1 through June 31 to protect greater amberjack spawning and allow the Council additional time to consider further modify the fixed closed season (82 FR 61485, December 28, 2017). In 2018, NMFS implemented a framework action under the FMP that revised the recreational fishing year from the calendar year (January 1 through December 31) to be from August 1 through July 31, and modified the Gulf greater amberjack recreational fixed closed season to be from November 1 through April 30 and from June 1 through July 31 (83 FR 13426, March 29, 2018). This meant that until the recreational ACT is reached or projected to be reached, recreational harvest is allowed during the months of August through October, and during the month of May. The current fixed closed season prohibits harvest during the peak greater amberjack spawning period in the majority of the Gulf (i.e., March and April) and allows for both a fall and spring recreational season if no in-season closure is required.

For the present action, the Council decided to recommend modifying the recreational fixed closed season in response to the substantial recreational catch limit reductions implemented through the final rule for Amendment 54 in order to lengthen the recreational fishing season and to protect the greater amberjack stock during all documented spawning periods in the Gulf (i.e., March through June). This change to the recreational fixed closed season, from the current closures of January 1 through April 30, from June 1 through July 31, and from November 1 through December 31, each year, to new closures from January 1 through August 31, and from November 1 through December 31, each year, would eliminate the spring recreational season. The revised recreational closure would allow for protection of the stock during the entire spawning period in the Gulf.

As described in the framework action, this proposed fixed closed season modification is projected to allow the recreational fishing season to be open for all of September and most of October (i.e., projected to extend to October 26th) each year. However, if recreational effort were to shift as a result of the fixed closed season change, then it is possible a recreational closure may occur earlier during the open season.

The Council considered four other fixed closed season alternatives in the framework action which are discussed in the Classification of this proposed rule. However, the Council determined that most of these fixed closed season alternatives had too much uncertainty due to limited historic data, did not extend the season as intended, or allowed harvest to occur during spawning. As with the commercial sector, the Council determined that a more cautious approach for management was warranted in order to meet the rebuilding timeline.

Management Measures Contained in This Proposed Rule

If implemented, this proposed rule would revise the commercial trip limit and recreational fixed closed season for Gulf greater amberjack.

Commercial Trip Limit

The existing regulations set the commercial trip limit for Gulf greater amberjack at 1,000 lb (454 kg), gutted weight (1,040 lb (472 kg), round weight), with a reduction to 250 lb (113 kg), gutted weight (260 lb (118 kg), round weight) when 75 percent of the commercial quota has been reached. This proposed rule would instead reduce the commercial trip limit to seven fish. Once the commercial quota has been reached, the commercial sector will close and commercial harvest is prohibited (50 CFR 622.41(a)(1)(i)).

As described in the framework action, the proposed trip limit reduction to seven fish (i.e., approximately 210 lb (95 kg), gutted weight (218 lb (99 kg), round weight) is expected to extend the length of the commercial fishing season into September, which would not occur under the status quo commercial trip limit. However, a commercial in-season closure in 2024 is projected to occur under the reduced trip limit sometime in June. As described in the framework action, if no commercial ACL overage occurs in 2024, an in-season closure under a seven fish trip limit is expected to occur in September of 2025.

In recommending this trip limit, the Council recognized that the Gulf greater amberjack stock is overfished and has not rebuilt as expected under the current and previous rebuilding plans. NMFS determined, in accordance with the Council's findings, that a more cautious approach for the commercial fishery was warranted and chose to substantially reduce the commercial trip limit.

Recreational Fixed Closed Season

The current Gulf greater amberjack recreational fixed closed season is from January 1 through April 30, June 1 through July 31, and November 1 through December 31, each year. This proposed rule would revise the closed season to January 1 through August 31, and November 1 through December 31, each year. This would result in the recreational season being scheduled to be open from September 1 through October 31, each year. NMFS notes that during the closure, the recreational bag and possession limit for greater amberjack in or from the Gulf exclusive economic zone (EEZ) is zero (50 CFR 622.34(c)).

Measure Contained in This Proposed Rule but Not Contained in the Framework Action

In addition to the Gulf greater amberjack management measures in the framework action, this proposed rule would clarify language related to the Gulf red snapper Federal charter vessel/headboat (for-hire) component quota (50 CFR 622.39(a)(2)(i)(B)) and the Gulf red snapper Federal for-hire component ACT (50 CFR 622.41(q)(2)(iii)(B)). When Amendment 40 to the FMP was implemented in 2015 and allocated the recreational ACL (quota) between the Federal for-hire and private angling components, the provisions referenced above specified that the Federal for-hire quota and ACT apply “to vessels that have been issued a valid Federal charter vessel/headboat permit for Gulf reef fish any time during the fishing year.” (80 FR 22422, April 22, 2015). This language was necessary to maintain the selected allocation between the components by allowing only those vessels issued the Federal for-hire permit during the fishing year to harvest red snapper under the for-hire component quota.

Subsequently, NMFS determined that it would be helpful to clarify these provisions to specify the restrictions on harvest and possession of red snapper when the for-hire season is closed by adding the following language: “A person aboard a vessel that has been issued a charter vessel/headboat permit for Gulf reef fish any time during the fishing year may not harvest or possess red snapper in or from the Gulf when the Federal charter vessel/headboat component is closed” (85 FR 6819, February 6, 2020; 88 FR 37475 June 8, 2023). In this proposed rule, and consistent with Amendment 40, NMFS proposes to add additional clarifying language to specify the restrictions on harvest and possession of red snapper when the for-hire season is open. This language would provide that when the Federal charter for-hire component is open, a person on board a vessel that has been issued a for-hire permit for Gulf reef fish at any time during the fishing year may harvest or possess red snapper in or from the Gulf only when the vessel is operating as a charter vessel or headboat.

Classification

Pursuant to section 304(b)(1)(A) of the Magnuson-Stevens Act, the NMFS Assistant Administrator has determined that this proposed rule is consistent with the framework action, the FMP, other provisions of the Magnuson-Stevens Act, and other applicable law, subject to further consideration after public comment.

This proposed rule has been determined to be not significant for purposes of Executive Order 12866. The Magnuson-Stevens Act provides the legal basis for this proposed rule. No duplicative, overlapping, or conflicting Federal rules have been identified. In addition, no new reporting and record-keeping requirements are introduced by this proposed rule. This proposed rule contains no information collection requirements under the Paperwork Reduction Act of 1995.

NMFS prepared an IRFA for this proposed rule, as required by section 603 of the Regulatory Flexibility Act (RFA), 5 U.S.C. 603. The IRFA describes the economic impact this proposed rule, if adopted, would have on small entities. A description of this proposed rule, why it is being considered, and the purposes of this proposed rule are contained in the SUMMARY and SUPPLEMENTARY INFORMATION sections of the preamble. A copy of the full analysis is available from NMFS (see ADDRESSES). A summary of the IRFA follows. The objectives of this proposed rule are to maintain commercial and recreational access to the greater amberjack component of the Gulf reef fish fishery, given the substantial ACL decreases under the Gulf greater amberjack rebuilding plan in Amendment 54, and ensure anglers and for-hire vessel operators understand that a person on a vessel issued a Gulf for-hire permit at any time during the fishing year can only harvest red snapper if the vessel is operating as a for-hire vessel. All monetary estimates in the following analysis are in 2021 dollars.

The existing regulations set the commercial trip limit for Gulf greater amberjack at 1,000 lb (454 kg), gutted weight (1,040 lb (472 kg), round weight), with a reduction to 250 lb (113 kg), gutted weight (260 lb (118 kg), round weight) when 75 percent of the commercial quota has been reached. This proposed rule would instead reduce the commercial trip limit to seven fish. This proposed rule would also establish the new commercial trip limit based on numbers of fish rather than on weight. As described in the framework action, a trip limit of seven fish is approximately equal to 210 lb (95 kg), gutted weight (218 lb (99 kg), round weight).

This proposed rule would also modify the recreational fixed closed season for Gulf greater amberjack from the original dates of November 1 through April 30 and June 1 through July 31 to the new dates of August 1 through August 31 and November 1 through July 31.

This proposed rule would also clarify language in the regulations related to the Gulf red snapper Federal charter vessel/headboat component quota and the Gulf red snapper Federal charter vessel/headboat component ACT.

Specifically, the regulations would be modified to clarify that a person on a vessel issued a Gulf for-hire permit at any time during the fishing year can only harvest red snapper if the vessel is operating as a for-hire vessel.

Given these proposed actions, this proposed rule is expected to regulate commercial fishing businesses and charter vessel/headboat (for-hire) fishing businesses that harvest Gulf greater amberjack. The action to clarify existing regulations related to the Gulf red snapper Federal charter vessel/headboat component quota and the Gulf red snapper Federal charter vessel/headboat component ACT are administrative in nature, and thus would not regulate or directly affect any entities.

A valid commercial Gulf reef fish vessel permit is required in order for commercial fishing vessels to legally harvest greater amberjack in the Gulf. At the end of 2020, 837 vessels possessed valid commercial Gulf reef fish vessel permits. However, not all vessels with a commercial Gulf reef fish permit actually harvest greater amberjack in the Gulf. From 2017 through 2021, the average number of vessels that commercially harvested Gulf greater amberjack was 199. Ownership data regarding vessels that harvest Gulf greater amberjack are incomplete which prohibits accurately determining affiliations between these particular vessels. Since determining ownership affiliations is not currently feasible, for the purposes of this analysis, NMFS assumes each of these vessels is independently owned by a single business. NMFS expects this assumption to result in an overestimate of the actual number of commercial fishing businesses regulated by this proposed rule. Thus, it is assumed this proposed rule would regulate 199 commercial fishing businesses.

Although the proposed changes to the recreational fixed closed season would apply to recreational private anglers, the RFA does not consider recreational private anglers to be entities. Small entities include small businesses, small organizations, and small governmental jurisdictions (see 5 U.S.C. 601(6) and 601(3)-(5)). Recreational private anglers are not businesses, organizations, or governmental jurisdictions and so they are outside the scope of this analysis (see 5 U.S.C. 603).

A valid Federal charter vessel/headboat (for-hire) permit for Gulf reef fish is required to legally harvest greater amberjack in the Gulf from a for-hire vessel. NMFS does not possess complete ownership data for vessels that hold charter vessel/headboat Gulf reef fish vessel permits and thus potentially harvest greater amberjack. Therefore, accurately determining affiliations between these vessels and the businesses that own them is not currently feasible. As a result, for purposes of this analysis, NMFS assumes each for-hire vessel is independently owned by a single business, which is expected to result in an overestimate of the actual number of for-hire fishing businesses regulated by this proposed rule.

NMFS also does not have data indicating how many for-hire vessels actually harvest Gulf greater amberjack in a given year. In 2020, there were 1,289 vessels with valid charter-headboat Gulf reef fish vessel permits. Of these 1,289 vessels, 803 were homeported in Florida. Of these 803 vessels, 62 are primarily used for commercial fishing rather than for-hire fishing purposes and thus are not considered for-hire fishing businesses (i.e., 1,227 vessels are for-hire fishing businesses). In addition, 46 of the permitted vessels are considered headboats. However, headboats take a relatively large, diverse set of anglers to harvest a diverse range of species on a trip and therefore do not typically target a particular species. Therefore, NMFS assumes that no headboat trips would be canceled, and thus no headboats would be directly affected as a result of this proposed rule.

Charter vessels often target greater amberjack. Of the 803 vessels with valid charter-headboat Gulf reef fish vessel permits that are homeported in Florida, 62 are primarily commercial fishing vessels and 46 are headboats, while the remaining 695 are charter vessels. As described in the framework action, 76 percent of charter vessels with valid charter-headboat permits in the Gulf were active in 2017 (i.e., 24 percent were not fishing). A charter vessel would only be directly affected by this proposed rule if it is fishing. Given this information, NMFS' best estimate of the number of charter vessels that are likely to target Gulf greater amberjack in a given year is 528. Thus, this proposed rule is estimated to regulate 528 for-hire fishing businesses.

For RFA purposes, NMFS has established a small business size standard for businesses, including their affiliates, whose primary industry is commercial fishing (NAICS Code 114111 (50 CFR 200.2)). A business primarily involved in the commercial fishing industry is classified as a small business if it is independently owned and operated, is not dominant in its field of operation (including its affiliates), and its combined annual receipts (i.e., revenue) are not in excess of $11 million for all of its affiliated operations worldwide. From 2017 through 2021, the maximum annual gross revenue earned by a single commercial reef fish vessel during this time was about $3.19 million, while the average annual gross revenue for a vessel commercially harvesting Gulf greater amberjack was $194,894. Based on this information, all commercial fishing businesses regulated by this proposed rule are determined to be small entities for the purpose of this analysis.

For other industries, the Small Business Administration has established size standards for all major industry sectors in the U.S., including for-hire businesses (NAICS code 487210). A business primarily involved in for-hire fishing is classified as a small business if it is independently owned and operated, is not dominant in its field of operation (including its affiliates) and has annual receipts (i.e., revenue) not in excess of $14.0 million for all its affiliated operations worldwide. The maximum annual gross revenue for a single headboat in the Gulf was about $1.45 million in 2017. On average, annual gross revenue for headboats in the Gulf is about three times greater than the annual gross revenue for charter vessels, reflecting the fact that businesses that own charter vessels are typically smaller than businesses that own headboats. Based on this information, all for-hire fishing businesses regulated by this proposed rule are determined to be small businesses for the purpose of this analysis.

If implemented, NMFS expects this proposed rule to directly affect 199 of the 837 commercial fishing businesses that possess a valid commercial Gulf reef fish permit (approximately 24 percent of those commercial fishing businesses). Further, NMFS expects this proposed rule to directly affect 528 of the 1,227 for-hire fishing businesses with valid Federal charter vessel/headboat permits in the Gulf reef fish fishery (approximately 43 percent of those for-hire fishing businesses). For the purpose of this analysis, all affected commercial and for-hire fishing businesses are small entities. Based on this information, NMFS expects the proposed rule to affect a substantial number of small entities.

For vessels that commercially harvest greater amberjack in the Gulf, currently available data indicates that economic profits are approximately 38 percent of annual average gross revenue. Given that their average annual gross revenue is $194,894, annual average economic profit per vessel is estimated to be approximately $74,060. This proposed rule would reduce the commercial trip limit for greater amberjack to seven fish. As described in the framework action, a trip limit of seven fish is approximately equal to 210 lb (95 kg), gutted weight; 218 lb (99 kg), round weight. This proposed rule is expected to lengthen the commercial fishing season for greater amberjack.

Economic effects expected to result from changes in commercial trip limits would typically include changes in ex-vessel revenues and profits of commercial fishing businesses. However, based on the relatively small size of the greater amberjack commercial ACT and harvest projections, commercial fishing businesses are projected to harvest all of the allocated commercial quota regardless of the commercial trip limit. Therefore, changes in ex-vessel revenues and profits for commercial fishing businesses would not be expected to result from the proposed action to change the commercial trip limit from 1,000 lb (454 kg) gutted weight, to seven fish.

Based on the most recent information available, average annual profit is $27,000 per charter vessel. Net Cash Flow per Angler Trip (CFpA) is the best available estimate of profit per angler trip by charter vessels. CFpA on charter vessels is estimated to be $149 per angler trip. Expected changes in charter trips targeting greater amberjack were derived from projected closure dates of the proposed action to modify the recreational fixed closed season, and from the average distribution of greater amberjack target trips by wave and mode between 2018 and 2021. Assuming there is no shift in effort, it is estimated that the change in the recreational fixed closed season would result in a decrease to the number of charter trips targeting greater amberjack by 195 trips, and thereby decrease the profits to charter fishing businesses by $29,108. On average, this would decrease profits by $55 per vessel. Thus, economic profits are expected to be reduced by 0.2 percent on average per charter fishing business.

Three alternatives, including the status quo, were considered for the proposed action to modify the commercial trip limit for Gulf greater amberjack and establish a new commercial trip limit based on numbers of fish rather than weight. The first alternative, the status quo, would have retained the current commercial trip limit for Gulf greater amberjack of 1,000 lb (454 kg), gutted weight (1,040 lb (472 kg,) round weight). Additionally, when 75 percent of the ACT is projected to be reached, the commercial trip limit would have been reduced to 250 lb (113 kg), gutted weight (260 lb (118 kg) round weight). This alternative would have allowed some targeting of greater amberjack to continue. However, the Council did not recommend, and NMFS did not select, this alternative because it would not modify the trip limit from pounds of fish, which is more difficult to enforce compared to a count of fish. This alternative is also expected to result in the shortest overall season, which is contrary to the objectives of the framework action.

The second alternative would have established a commercial trip limit of eight fish. A trip limit of eight fish is approximately equal to 257 lb (117 kg), gutted weight; 267 lb (121 kg), round weight. The Council did not recommend and NMFS did not select this alternative because it is not expected to extend the commercial season as long as the proposed action would.

The third alternative would have established a commercial trip limit of five fish. A trip limit of five fish is approximately equal to 150 lb (68 kg), gutted weight; 155 lb (70 kg), round weight. Like the proposed action, this alternative would have modified the trip limit from pounds of fish to numbers of fish. Although this trip limit would have resulted in the longest commercial season, the Council did not recommend and NMFS did not select this alternative because it was deemed to be too restrictive.

Two alternatives, including the status quo, were considered for the proposed action to modify the recreational fixed closed season for Gulf greater amberjack. The first alternative, the status quo, would have retained the current recreational fixed closed season of November 1 through April 30 and June 1 through July 31. As described in the framework action, this alternative was not selected because it results in the shortest projected season (i.e., 21 days), which could promote race to fish (i.e., derby-like) fishing behavior, and does not protect the stock during spawning periods. As described in the framework action, the Council also expressed a desire for a longer season length rather than a split season and a fishing season start date in August. Further, this alternative gives the least flexibility to for-hire operators with respect to rescheduling trips due to inclement weather or other constraints with the short-projected season. For all of the reasons stated above, NMFS agrees with the Council's decision not to recommend the status quo alternative.

The second alternative would have modified the recreational fixed closed season to be August 1 through August 31, October 1 through April 30, and June 1 through July 31. Although this alternative would have been expected to result in a greater amount of charter trips targeting Gulf greater amberjack compared to the status quo, it still allows for harvest during the spawning season. The Council did not recommend and NMFS did not select this alternative because it does not protect the stock during spawning periods as described in the framework action, which ultimately could have negative long-term effects if the stock does not rebuild.

List of Subjects in 50 CFR Part 622

Commercial, Fisheries, Fishing, Greater amberjack, Gulf, Recreational, Red snapper, Reef fish.

Dated: May 8, 2024.
Samuel D. Rauch, III,
Deputy Assistant Administrator for Regulatory Programs, National Marine Fisheries Service.

For the reasons set out in the preamble, NMFS proposes to amend 50 CFR part 622 as follows:

PART 622—FISHERIES OF THE CARIBBEAN, GULF OF MEXICO, AND SOUTH ATLANTIC

1. The authority citation for part 622 continues to read as follows:

Authority: 16 U.S.C. 1801 et seq.

2. In § 622.34, revise paragraph (c) to read as follows:

§ 622.34 Seasonal and area closures designed to protect Gulf reef fish.

* * * * *

(c) Seasonal closure of the recreational sector for greater amberjack. The recreational sector for greater amberjack in or from the Gulf EEZ is closed from January 1 through August 31 and from November 1 through December 31 each year. During the closure, the bag and possession limit for greater amberjack in or from the Gulf EEZ is zero.

* * * * *

3. In § 622.39, revise paragraph (a)(2)(i)(B) to read as follows:

§ 622.39 Quotas.

* * * * *

(a) * * *

(2) * * *

(i) * * *

(B) Federal charter vessel/headboat component quota. The Federal charter vessel/headboat component quota applies to vessels that have been issued a valid Federal charter vessel/headboat permit for Gulf reef fish any time during the fishing year. A person aboard a vessel that has been issued a charter vessel/headboat permit for Gulf reef fish any time during the fishing year may not harvest or possess red snapper in or from the Gulf when the Federal charter vessel/headboat component is closed. When the Federal charter vessel/headboat component is open, a person on board a vessel that has been issued a charter vessel/headboat permit for Gulf reef fish at any time during the fishing year may harvest or possess red snapper in or from the Gulf only when the vessel is operating as a charter vessel or headboat. The Federal charter vessel/headboat component quota is 3,380,574 lb (1,533,403 kg), round weight.

* * * * *

4. In § 622.41, revise paragraph (q)(2)(iii)(B) to read as follows:

§ 622.41 Annual catch limits (ACLs), annual catch targets (ACTs), and accountability measures (AMs).

* * * * *

(q) * * *

(2) * * *

(iii) * * *

(B) Federal charter vessel/headboat component ACT. The Federal charter vessel/headboat component ACT applies to vessels that have been issued a valid Federal charter vessel/headboat permit for Gulf reef fish any time during the fishing year. A person aboard a vessel that has been issued a charter vessel/headboat permit for Gulf reef fish any time during the fishing year may not harvest or possess red snapper in or from the Gulf when the Federal charter vessel/headboat component is closed. When the Federal charter vessel/headboat component is open, a person on board a vessel that has been issued a charter vessel/headboat permit for Gulf reef fish at any time during the fishing year may harvest or possess red snapper in or from the Gulf only when the vessel is operating as a charter vessel or headboat. The component ACT is 3,076,322 lb (1,395,396 kg), round weight.

* * * * *

5. In § 622.43, revise paragraph (a) to read as follows:

§ 622.43 Commercial trip limits.

* * * * *

(a) Greater amberjack. Until the commercial quota specified in § 622.39(a)(1)(v) is reached—7 fish. See § 622.39(b) for the limitations regarding greater amberjack after the quota is reached.

* * * * *

[FR Doc. 2024-10475 Filed 5-14-24; 8:45 am]

BILLING CODE 3510-22-P